Proclamation 8503 of April 21, 2010

Earth Day, 2010

By the President of the United States of America

A Proclamation

In the fall of 1969, Wisconsin Senator Gaylord Nelson announced plans for a national “environmental teach-in”—one day, each year, of action and advocacy for the environment. His words rallied our Nation, and the first Earth Day, as it became known, saw millions come together to meet one of the greatest challenges of our times: caring for our planet. What Senator Nelson and the other organizers believed then, and what we still believe today, is that our environment is a blessing we share. Our future is inextricably bound to our planet’s future, and we must be good stewards of our home as well as one another.

On the 40th anniversary of Earth Day, we come together to reaffirm those beliefs. We have come far in these past four decades. One year before the first Earth Day, our Nation watched in horror as the polluted and debris-choked Cuyahoga River in Cleveland, Ohio, caught fire. In response, a generation of Americans stepped forward to demand progress. What Americans achieved in the decades that followed has made our children healthier, our water and air cleaner, and our planet more livable.

We passed the Clean Air and Clean Water Acts, established the Environmental Protection Agency, and safeguarded treasured American landscapes. Americans across our country have witnessed the impact of these measures, including the people of Cleveland, where the Cuyahoga River is cleaner than it has been in a century.

We continue to build on this progress today. My Administration has invested in clean energy and clean water infrastructure across the country. We are also committed to passing comprehensive energy and climate legislation that will create jobs, reduce our dependence on foreign oil, and cut carbon pollution.

We have more work to do, however, and change will not come from Washington alone. The achievements of the past were possible because ordinary Americans demanded them, and meeting today’s environmental challenges will require a new generation to carry on Earth Day’s cause. From weatherizing our homes to planting trees in our communities, there are countless ways for every American, young and old, to get involved. I encourage all Americans to visit WhiteHouse.gov/EarthDay for information and resources to get started.

The 40th anniversary of Earth Day is an opportunity for us to reflect on the legacy we have inherited from previous generations, and the legacy that we will bestow upon generations to come. Their future depends on the action we take now, and we must not fail them. Forty years from today, when our children and grandchildren look back on what we did at this moment, let them say that we, too, met the challenges of our time and passed on a cleaner, healthier planet.

NOW, THEREFORE, I, BARACK OBAMA, President of the United States of America, by virtue of the authority vested in me by the Constitution and the laws of the United States, do hereby proclaim April 22, 2010, as Earth Day. I encourage all Americans to participate in programs and activities that will protect our environment and contribute to a healthy, sustainable future.

IN WITNESS WHEREOF, I have hereunto set my hand this twenty-first day of April, in the year of our Lord two thousand ten, and of the Independence of the United States of America the two hundred and thirty-fourth.

[FR Doc. 2010-9818

Filed 4-26-10; 8:45 am]

Billing code 3195-W0-P